BOARD FOR INTERNATIONAL BROADCASTING

22 CFR Chapter XIII

Removal of CFR Chapter

Effective September 30, 1995, the Board for International Broadcasting was terminated by Public Law 103-236, 22 U.S.C. 6209e. Therefore, the Office of the Federal Register is removing BIB regulations pursuant to its authority to maintain an orderly system of codification under 44 U.S.C. 1510 and 1 CFR part 8.

Accordingly, 22 CFR is amended by removing parts 1300 through 1399 and vacating Chapter XIII.

[FR Doc. 01-55524 Filed 8-14-01; 8:45 am]

BILLING CODE 1505-01-D